NUCLEAR REGULATORY COMMISSION

[NRC-2009-0268]

Notice of Availability of Interim Staff Guidance Documents for Spent Fuel Storage Casks

AGENCY: Nuclear Regulatory Commission.

ACTION: Notice of Availability.

FOR FURTHER INFORMATION CONTACT: Matthew Gordon, Structural Mechanics and Materials Branch, Division of Spent Fuel Storage and Transportation Division, Office of Nuclear Material Safety and Safeguards, U.S. Nuclear Regulatory Commission, Washington, DC 20005-0001. Telephone: (301) 492-3331; fax number: (301) 492-3342; e-mail: matthew.gordon@nrc.gov.

SUPPLEMENTARY INFORMATION:

I. Introduction

The Nuclear Regulatory Commission (NRC) has prepared a draft Interim Staff Guidance (ISG) No. 23 document, entitled “Application of ASTM Standard Practice C1671-07 when performing technical reviews of spent fuel storage and transportation packaging licensing actions.” This draft ISG document would provide guidance to the NRC staff when reviewing licensee integrated safety analyses, license or Certificate of Compliance applications or amendment requests, or other related activities for dry cask storage systems under 10 CFR part 71 and 10 CFR part 72. The NRC is soliciting public comments on this draft of ISG-23, which will be considered before the NRC issues any final version.

II. Further Information

Documents related to this action are available electronically at the NRC's Electronic Reading Room at http://www.nrc.gov/reading-rm/adams.html. From this site, you can access the NRC's Agencywide Document Access and Management System (ADAMS), which provides text and image files of NRC's public documents. The ADAMS accession numbers for the documents related to this notice are provided in the following table. If you do not have access to ADAMS or if there are problems in accessing the documents located in ADAMS, contact the NRC Public Document Room (PDR) reference staff at 1-800-397-4209, 301-415-4737, or by e-mail to matthew.gordon@nrc.gov.

ADAMS document | ADAMS accession No.
Draft of Interim Staff Guidance-23 | ML090771224

These documents may also be viewed electronically on the public computers located at the NRC's PDR, O-1 F21, One White Flint North, 11555 Rockville Pike, Rockville, MD 20852. The PDR reproduction contractor will copy documents for a fee. Comments and questions on ISG-23 should be directed to Matthew Gordon, Structural Mechanics and Materials Branch, Division of Spent Fuel Storage and Transportation, Office of Nuclear Materials Safety and Safeguards, U.S. Nuclear Regulatory Commission, Washington, DC 20005-0001 by August 17, 2009. Comments received after this date will be considered if it is practical to do so, but assurance of consideration cannot be given to comments received after this date. Comments can also be submitted by telephone, fax, or e-mail to the following: Telephone: (301) 492-3331; fax number: (301) 492-3331; e-mail: matthew.gordon@nrc.gov.

Dated at Rockville, Maryland this 25th day of June 2009.
For the U.S. Nuclear Regulatory Commission.
Robert E. Einziger,
Acting Chief, Structural Mechanics and Materials Branch, Division of Spent Fuel Storage and Transportation, Office of Nuclear Materials Safety and Safeguards.

[FR Doc. E9-15622 Filed 7-1-09; 8:45 am]

BILLING CODE 7590-01-P